DEPARTMENT OF AGRICULTURE

Agricultural Marketing Service

7 CFR Part 205

[Document Number AMS-NOP-10-0068; NOP-10-08]

Meeting of the National Organic Standards Board

AGENCY: Agricultural Marketing Service, USDA.

ACTION: Request for comments.

SUMMARY: In accordance with the Federal Advisory Committee Act, as amended, the Agricultural Marketing Service (AMS) is announcing a forthcoming meeting of the National Organic Standards Board (NOSB). The principal purpose of NOSB meetings is to provide an opportunity for the organic community to weigh in on proposed NOSB recommendations and discussion items. These meetings also allow the NOSB to receive updates from the USDA/NOP on issues pertaining to organic agriculture.

DATES: The meeting dates are Monday, October 25, 2010, 8 a.m. to 5:30 p.m.; Tuesday, October 26, 2010, 8 a.m. to 4:40 p.m.; Wednesday, October 27, 2010, 8 a.m. to 5 p.m.; and Thursday, October 28, 2010, 8 a.m. to 5:30 p.m. Requests from individuals and organizations wishing to make oral presentations at the meeting are due by the close of business on Tuesday, October 12, 2010.

ADDRESSES: The meeting will take place at the Best Western InnTowner, 2424 University Avenue, Madison, Wisconsin 53726.

• The NOSB meeting agenda and proposed recommendations may be viewed at http://www.ams.usda.gov/nop. Requests for copies of these materials may be sent to Ms. Lisa Ahramjian (see FOR FURTHER INFORMATION CONTACT section).

• Written comments on proposed NOSB recommendations may be received by the close of business on Tuesday, October 12, 2010. Written comments may be submitted to Ms. Lisa Ahramjian electronically at www.regulations.gov (preferred) or via mail (see FOR FURTHER INFORMATION CONTACT section). The comments should identify Document Number AMS-NOP-10-0068; NOP-10-08. It is our intention to have all comments—whether they are submitted by mail or the Internet—available for viewing on the www.regulations.gov Web site.

• To make an oral presentation at the meeting, please send a request to Ms. Lisa Ahramjian at nosb@ams.usda.gov or (202) 720-3252.

FOR FURTHER INFORMATION CONTACT: Ms. Lisa Ahramjian, Executive Director, National Organic Standards Board, USDA-AMS-NOP, 1400 Independence Ave., SW., Room 2646-So., Ag Stop 0268, Washington, DC 20250-0268; Phone: (202) 720-3252; nosb@ams.usda.gov.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 197 addenda to its recommendations and reviewed more than 357 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding five years unless the exemption or prohibition is reviewed and recommended for renewal by the NOSB and adopted by the Secretary of Agriculture. This expiration is commonly referred to as sunset of the National List. The National List appears at 7 CFR Part 205, Subpart G.

The principal purpose of NOSB meetings is to provide an opportunity for the organic community to weigh in on proposed NOSB recommendations and discussion items. These meetings also allow the NOSB to receive updates from the USDA/NOP on issues pertaining to organic agriculture.

Summary of April 2010 NOSB Meeting

The last NOSB meeting was held on April 26-29, 2010, in Davis, California. During this meeting, the Board did not recommend the addition of any new materials to the National List, but did recommend renewal of 148 of the 232 listings of materials scheduled to expire on specific dates in 2012 (see Table 1). In addition, the Advanced Notice of Proposed Rulemaking for Sunset 2012 [Doc. No. AMS-NOP-09-0074; NOP-09-01] (75 FR 14500, March 26, 2010) was open for comments during the time of the April 2010 business meeting, and was not scheduled to close until May 25, 2010. Consequently, the Board had not yet received or reviewed all public comments, and was aware that additional information may be received from the public that may require the reconsideration of one or all of the materials recommended for continued listing at the next scheduled meeting of the Board.

Table 1—NOSB's Previous Sunset 2012 Relisting Recommendations
Section | Material | Expiration date
§ 205.601 Synthetic substances allowed for use in organic crop production | Hydrogen peroxide Soap-based algicide/demossers Herbicides, soap-based Soaps, ammonium | October 21, 2012. October 21, 2012. October 21, 2012. October 21, 2012.
| Ammonium carbonate | October 21, 2012.
| Boric acid | October 21, 2012.
| Elemental sulfur | October 21, 2012.
| Lime sulfur | October 21, 2012.
| Oils, horticultural-narrow range oils as dormant, suffocating, and summer oils | October 21, 2012.
| Soaps, insecticidal | October 21, 2012.
| Sticky traps/barriers | October 21, 2012.
| Sucrose octanoate esters (CAS #s—42922-74-7; 58064-47-4) | December 11, 2012.
| Hydrated lime | October 21, 2012.
| Hydrogen peroxide | October 21, 2012.
| Lime sulfur | October 21, 2012.
| Oils, horticultural-narrow range oils as dormant, suffocating, and summer oils | October 21, 2012.
| Potassium bicarbonate | October 21, 2012.
| Elemental sulfur | October 21, 2012.
| Aquatic plant extracts (other than hydrolyzed) | October 21, 2012.
| Elemental sulfur | October 21, 2012.
| Humic acids | October 21, 2012.
| Soluble boron products | October 21, 2012.
| Sulfates of zinc | October 21, 2012.
| Sulfates of copper | October 21, 2012.
| Sulfates of iron | October 21, 2012.
| Sulfates of manganese | October 21, 2012.
| Sulfates of molybdenum | October 21, 2012.
| Sulfates of selenium | October 21, 2012.
| Sulfates of cobalt | October 21, 2012.
| Carbonates of zinc | October 21, 2012.
| Carbonates of copper | October 21, 2012.
| Carbonates of iron | October 21, 2012.
| Carbonates of manganese | October 21, 2012.
| Carbonates of molybdenum | October 21, 2012.
| Carbonates of selenium | October 21, 2012.
| Carbonates of cobalt | October 21, 2012.
| Oxides of zinc | October 21, 2012.
| Oxides of copper | October 21, 2012.
| Oxides of iron | October 21, 2012.
| Oxides of manganese | October 21, 2012.
| Oxides of molybdenum | October 21, 2012.
| Oxides of selenium | October 21, 2012.
| Oxides of cobalt | October 21, 2012.
| Silicates of zinc | October 21, 2012.
| Silicates of copper | October 21, 2012.
| Silicates of iron | October 21, 2012.
| Silicates of manganese | October 21, 2012.
| Silicates of molybdenum | October 21, 2012.
| Silicates of selenium | October 21, 2012.
| Silicates of cobalt | October 21, 2012.
| Liquid fish products | October 21, 2012.
| Vitamin B1 | October 21, 2012.
| Vitamin C | October 21, 2012.
| Vitamin E | October 21, 2012.
§ 205.602 Nonsynthetic substances prohibited for use in organic crop production | Ash from manure burning Arsenic Lead salts Potassium chloride | October 21, 2012. October 21, 2012. October 21, 2012. October 21, 2012.
| Sodium fluoaluminate (mined) | October 21, 2012.
| Strychnine | October 21, 2012.
| Tobacco dust (nicotine sulfate) | October 21, 2012.
§ 205.603 Synthetic substances allowed for use in organic livestock production | Atropine (CAS #—51-55-8) | December 13, 2012.
| Vaccines | October 21, 2012.
| Butorphanol (CAS #—42408-82-2) | December 13, 2012.
| Chlorhexidine | October 21, 2012.
| Electrolytes—without antibiotics | October 21, 2012.
| Flunixin (CAS #—38677-85-9) | December 13, 2012.
| Hydrogen peroxide | October 21, 2012.
| Iodine | October 21, 2012.
| Magnesium hydroxide (CAS #—1309-42-8). | December 13, 2012.
| Oxytocin—use in postparturition therapeutic applications | October 21, 2012.
| Ivermectin | October 21, 2012.
| Peroxyacetic/peracetic acid (CAS #—79-21-0) | December 13, 2012.
| Phosphoric acid | October 21, 2012.
| Poloxalene (CAS #—9003-11-6) | December 13, 2012.
| Tolazoline (CAS #—59-98-3) | December 13, 2012.
| Xylazine (CAS #—7361-61-7) | December 13, 2012.
| Iodine | October 21, 2012.
| Lidocaine | October 21, 2012.
| Lime, hydrated | October 21, 2012.
| Mineral oil | October 21, 2012.
| Procaine | October 21, 2012.
| Sucrose octanoate esters (CAS #s—42922-74-7, 58064-47-4) | December 11, 2012.
| Trace minerals | October 21, 2012.
| Vitamins | October 21, 2012.
| Excipients | December 13, 2012.
§ 205.604 Nonsynthetic substances prohibited for use in organic livestock production | Strychnine | October 21, 2012.
§ 205.605(a) Nonsynthetic substances allowed as ingredients in or on processed products labeled as “organic” or “made with organic.” | Alginic acid Citric acid Lactic acid Bentonite Calcium carbonate Calcium chloride Dairy cultures | October 21, 2012. October 21, 2012. October 21, 2012. October 21, 2012. October 21, 2012. October 21, 2012. October 21, 2012.
| Diatomaceous earth | October 21, 2012.
| Kaolin | October 21, 2012.
| Nitrogen—oil free grades | October 21, 2012.
| Oxygen—oil free grades | October 21, 2012.
| Perlite | October 21, 2012.
| Potassium chloride | October 21, 2012.
| Sodium bicarbonate | October 21, 2012.
| Sodium carbonate | October 21, 2012.
| Carnauba wax—nonsynthetic | October 21, 2012.
| Wood resin wax—nonsynthetic | October 21, 2012.
§ 205.605(b) Synthetic substances allowed as ingredients in or on processed products labeled as “organic” or “made with organic.” | Alginates Ammonium bicarbonate Ammonium carbonate Ascorbic Acid Calcium citrate Calcium hydroxide Calcium phosphates monobasic | October 21, 2012. October 21, 2012. October 21, 2012. October 21, 2012. October 21, 2012. October 21, 2012. October 21, 2012.
| Calcium phosphates dibasic | October 21, 2012.
| Calcium phosphates tribasic | October 21, 2012.
| Carbon dioxide | October 21, 2012.
| Ethylene | October 21, 2012.
| Monoglycerides* To be reconsidered at Fall 2010 meeting due to public comments | October 21, 2012.
| Diglycerides* To be reconsidered at Fall 2010 meeting due to public comments | October 21, 2012.
| Glycerin | October 21, 2012.
| Hydrogen peroxide | October 21, 2012.
| Magnesium carbonate | October 21, 2012.
| Magnesium chloride | October 21, 2012.
| Magnesium stearate | October 21, 2012.
| Ozone | October 21, 2012.
| Potassium acid tartrate | October 21, 2012.
| Potassium carbonate | October 21, 2012.
| Potassium citrate | October 21, 2012.
| Potassium hydroxide | October 21, 2012.
| Potassium phosphate | October 21, 2012.
| Xanthan gum | October 21, 2012.
§ 205.606 Nonorganically produced agricultural products allowed as ingredients in or on processed products labeled as “organic.” | Casings, from processed intestines Celery powder Chia (Salvia hispanica L.) Dillweed oil (CAS #—8006-75-5) Fish oil (fatty acid CAS #'s—10417-94-4 and 25167-62-8) Galangal, frozen | June 27, 2012. June 27, 2012. June 27, 2012. June 27, 2012. June 27, 2012. June 27, 2012.
| Gelatin (CAS #—9000-70-8) | June 27, 2012.
| Arabic gum | October 21, 2012.
| Guar gum | October 21, 2012.
| Locust bean gum | October 21, 2012.
| Carob bean gum | October 21, 2012.
| Kelp | October 21, 2012.
| Konjac flour (CAS #—37220-17-0) | June 27, 2012.
| Lemongrass, frozen | June 27, 2012.
| Orange shellac—unbleached (CAS #—9000-59-3) | June 27, 2012.
| Peppers (chipotle chile) | June 27, 2012.
| Sweet potato starch, for bean thread production only | June 27, 2012.
| Turkish bay leaves | June 27, 2012.
| Wakame seaweed (Undaria pinnatifida) | June 27, 2012.

In addition to sunset 2012 activities, the board accomplished the following: Suggested six steps to accomplish the changes in regulation to allow NOSB, NOP, and EPA to review materials currently on the now obsolete EPA List 3 and 4 Inerts and determine how best to evaluate these materials; proposed an annotation to allow the petitioned levels of the three forms of methionine allowed in organic poultry feed through October 1, 2012, at which time the maximum levels of methionine would be reduced; and proposed a language clarification to allow young organic animals still receiving milk in their diet to consume milk from animals being treated with substances allowed under § 205.603, regardless of withholding time.

Agenda Items for Fall 2010

The Crops Committee will present recommendations on eight sunset 2012 material listings (see Table 2).

Table 2—Crop Committee Sunset 2012 Recommendations (To Be Presented at October, 2010 Meeting)
Section | Material | Expiration date
§ 205.601 Synthetic substances allowed for use in organic crop production | Calcium hypochlorite Chlorine dioxide Sodium hypochlorite Copper hydroxide | October 21, 2012. October 21, 2012. October 21, 2012. October 21, 2012.
| Copper oxide | October 21, 2012.
| Copper oxychloride | October 21, 2012.
| Copper sulfate | October 21, 2012.
| EPA List 4—Inerts of Minimal Concern | October 21, 2012.
§ 205.602 Nonsynthetic substances prohibited for use in organic crop production | None

The Corps Committee is deferring fifteen sunset 2012 material listing until the spring 2011 NOSB meeting for additional technical review (see Table 3).

Table 3—Crop Committee Deferred Sunset 2012 Materials (To Be Addressed at Spring, 2011 Meeting)
Section | Material | Expiration date
§ 205.601 Synthetic substances allowed for use in organic crop production | Ethanol Isopropanol Newspapers or other recycled paper, without glossy or colored inks | October 21, 2012. October 21, 2012. October 21, 2012.
| Plastic mulch and covers | October 21, 2012.
| Newspapers or other recycled paper, without glossy or colored inks | October 21, 2012.
| Pheromones | October 21, 2012.
| Sulfur dioxide | October 21, 2012.
| Vitamin D3 | October 21, 2012.
| Streptomycin | October 21, 2012.
| Lignin sulfonate | October 21, 2012.
| Magnesium sulfate | October 21, 2012.
| Ethylene gas | October 21, 2012.
| Lignin sulfonate | October 21, 2012.
| Sodium silicate | October 21, 2012.
§ 205.602 Nonsynthetic substances prohibited for use in organic crop production | Sodium nitrate | October 21, 2012.

The Crops Committee will also present recommendations to the board on four petitioned materials: ethylene glycol, ethylene DDS, tall oils, and tetramethyl-decyne-diol. Other Crops Committee recommendations include a review of their prior sunset 2012 recommendations on § 205.601 and § 205.602 and a recommendation on corn steep liquor.

The Livestock Committee will present recommendations on twelve sunset 2012 material listings (see Table 4).

Table 4—Livestock Committee Sunset 2012 Recommendations (To Be Presented at October, 2010 Meeting)
Section | Material | Expiration date
§ 205.603 Synthetic substances allowed for use in organic livestock production | Ethanol Isopropanol Aspirin Calcium hypochlorite Chlorine dioxide | October 21, 2012. October 21, 2012. October 21, 2012. October 21, 2012. October 21, 2012.
| Sodium hypochlorite | October 21, 2012.
| Furosemide | December 13, 2012.
| Glucose | October 21, 2012.
| Glycerine | October 21, 2012.
| Magnesium sulfate | October 21, 2012.
| Copper sulfate | October 21, 2012
| EPA List 4—Inerts of Minimal Concern | October 21, 2012
§ 205.604 Nonsynthetic substances prohibited for use in organic livestock production | None. |

The Livestock Committee will also present recommendations to the board on one petitioned material, formic acid, and review their prior sunset 2012 recommendations on § 205.603 and § 205.604. Other Livestock Committee recommendations include issues regarding apiculture and animal health care products/clarifying § 205.238(c)(2).

The Handling Committee will present recommendations on 43 sunset 2012 material listings (see Table 5).

Table 5—Handling Committee Sunset 2012 Recommendations (To Be Presented at October, 2010 Meeting)
Section | Material | Expiration date
§ 205.605(a) Nonsynthetic substances allowed as ingredients in or on processed products labeled as “organic” or “made with organic.” | Flavors Magnesium sulfate Yeast autolysate Bakers yeast Brewers yeast Nutritional yeast Smoked yeast | October 21, 2012. October 21, 2012. October 21, 2012. October 21, 2012. October 21, 2012. October 21, 2012. October 21, 2012.
§ 205.605(b) Synthetic substances allowed as ingredients in or on processed products labeled as “organic” or “made with organic.” | Calcium hypochlorite Chlorine dioxide Sodium hypochlorite Ferrous sulfate Pectin (low-methoxy) Phosphoric acid Silicon dioxide Sodium citrate Sodium hydroxide Sodium phosphates Sulfur dioxide | October 21, 2012. October 21, 2012. October 21, 2012. October 21, 2012. October 21, 2012. October 21, 2012. October 21, 2012. October 21, 2012. October 21, 2012. October 21, 2012. October 21, 2012.
§ 205.606 Nonorganically produced agricultural products allowed as ingredients in or on processed products labeled as “organic.” | Annatto extract color (pigment CAS # 1393-63-1)—water and oil soluble Beet juice extract color (pigment CAS # 7659-95-2) Beta-carotene extract color from carrots (CAS # 1393-63-1) | June 27, 2012. June 27, 2012. June 27, 2012.
| Black currant juice color (pigment CAS #'s: 528-58-5, 528-53-0, 643-84-5, 134-01-0, 1429-30-7, and 134-04-3) | June 27, 2012.
| Black/purple carrot juice color (pigment CAS #'s: 528-58-5, 528-53-0, 643-84-5, 134-01-0, 1429-30-7, and 134-04-3) | June 27, 2012.
| Blueberry juice color (pigment CAS #'s: 528-58-5, 528-53-0, 643-84-5, 134-01-0, 1429-30-7, and 134-04-3) | June 27, 2012.
| Carrot juice color (pigment CAS # 1393-63-1) | June 27, 2012.
| Cherry juice color (pigment CAS #'s: 528-58-5, 528-53-0, 643-84-5, 134-01-0, 1429-30-7, and 134-04-3) | June 27, 2012.
| Chokeberry—Aronia juice color (pigment CAS #'s: 528-58-5, 528-53-0, 643-84-5, 134-01-0, 1429-30-7, and 134-04-3) | June 27, 2012.
| Elderberry juice color (pigment CAS #'s: 528-58-5, 528-53-0, 643-84-5, 134-01-0, 1429-30-7, and 134-04-3) | June 27, 2012.
| Grape juice color (pigment CAS #'s: 528-58-5, 528-53-0, 643-84-5, 134-01-0, 1429-30-7, and 134-04-3) | June 27, 2012.
| Grape skin extract color (pigment CAS #'s: 528-58-5, 528-53-0, 643-84-5, 134-01-0, 1429-30-7, and 134-04-3) | June 27, 2012.
| Paprika color—dried powder and vegetable oil extract (CAS # 68917-78-2) | June 27, 2012.
| Pumpkin juice color (pigment CAS # 127-40-2) | June 27, 2012.
| Purple potato juice color (pigment CAS #'s: 528-58-5, 528-53-0, 643-84-5, 134-01-0, 1429-30-7, and 134-04-3) | June 27, 2012.
| Red cabbage extract color (pigment CAS #'s: 528-58-5, 528-53-0, 643-84-5, 134-01-0, 1429-30-7, and 134-04-3) | June 27, 2012.
| Red radish extract color (pigment CAS #'s 528-58-5, 528-53-0, 643-84-5, 134-01-0, 1429-30-7, and 134-04-3) | June 27, 2012.
| Saffron extract color (pigment CAS # 1393-63-1) | June 27, 2012.
| Turmeric extract color (CAS # 458-37-7) | June 27, 2012.
| Fructo-oligosaccharides (CAS#308066-66-2) | June 27, 2012.
| Hops (humulus lupulus) | June 27, 2012.
| Inulin, oligofructose enriched (CAS # 9005-80-5) | June 27, 2012.
| Pectin (high-methoxy) | October 21, 2012.
| Cornstarch (native) | October 21, 2012.
| Whey protein | June 27, 2012.

The Handling Committee is deferring decisions on six sunset 2012 material listings until the Spring 2011 NOSB meeting for additional technical review (see Table 6).

Table 6—Handling Committee Deferred Sunset 2012 Materials (To Be Addressed at Spring, 2011 Meeting)
Section | Material | Expiration date
§ 205.605(a) Nonsynthetic substances allowed as ingredients in or on processed products labeled as “organic” or “made with organic.” | Enzymes Potassium iodide | October 21, 2012. October 21, 2012.
§ 205.605(b) Synthetic substances allowed as ingredients in or on processed products labeled as “organic” or “made with organic.” | Nutrient vitamins Nutrient minerals Potassium iodide Tocopherols | October 21, 2012. October 21, 2012. October 21, 2012. October 21, 2012.
§ 205.606 Nonorganically produced agricultural products allowed as ingredients in or on processed products labeled as “organic.” | None |

The Handling Committee will also present recommendations to the board on four petitioned materials: Yeast (petition to move from § 205.605 to § 205.606), pectin (low-methoxy), glucosamine hydrochloride, and hops (petition to remove from the National List). Other Handling Committee recommendations include a review of their prior sunset 2012 recommendations on § 205.605(a), § 205.605(b), and § 205.606. The Committee will reconsider a prior sunset 2012 recommendation on glycerides (mono and di), and present a colors annotation recommendation.

The Materials Committee will present a recommendation on nanotechnology and provide an oral update on materials classification.

The Compliance, Accreditation, and Certification Committee will present a recommendation on the “made with” organic claim and the limitations of § 205.101(b).

The Policy Development Committee will present recommendations on three sections of the NOSB Policy and Procedures Manual: Section IV (Establishing Ad-hoc Committees), Section V (NOP/NOSB Collaboration), and Section VIII (Recommendations on sunset Review Policy). Additionally, they will present a recommendation to update the NOSB New Member Guide.

The Meeting Is Open to the Public. The NOSB has scheduled time for public input for Monday, October 25, 2010, from 10 a.m. to 5:30 p.m. and Wednesday, October 27, 2010 from 8 a.m. to 5 p.m. Individuals and organizations wishing to make oral presentations at the meeting must forward their requests by e-mail, phone, or mail to Ms. Lisa Ahramjian (see FOR FURTHER INFORMATION CONTACT section above). Individuals or organizations will be given one five-minute slot to present their views. All persons making oral presentations are requested to provide their comments in writing and indicate the topic of their comment, referencing specific NOSB recommendations/topics or noting if they plan to cover multiple topics. Written submissions may contain information other than that presented at the oral presentation. Anyone may submit written comments at the meeting. Persons submitting written comments are asked to provide 30 copies.

Interested persons may visit the NOSB portion of the NOP Web site at http://www.ams.usda.gov/nop to view available meeting documents prior to the meeting, or visit www.regulations.gov to submit and view comments (see ADDRESSES section above). Documents presented at the meeting will be posted for review on the NOP Web site approximately six weeks following the meeting.

Dated: September 13, 2010.
David R. Shipman,
Acting Administrator, Agricultural Marketing Service.

[FR Doc. 2010-23337 Filed 9-17-10; 8:45 am]

BILLING CODE 3410-02-P